DEPARTMENT OF HEALTH AND HUMAN SERVICES

Administration for Children and Families

[CFDA Number: 93.676]

Announcement of Intent To Issue Multiple Single-Source Awards To Provide Residential (Shelter) and Transitional Foster Care Services, and for Finger Print Services for Unaccompanied Children

AGENCY: Office of Refugee Resettlement (ORR), Administration for Children and Families (ACF), Department of Health and Human Services (HHS).

ACTION: Notice of issuance of multiple single-source awards to seven recipients.

SUMMARY: ACF, ORR announces the issuance of multiple Single-Source Awards to seven recipients in the amount of $65,366,800. ORR has been identifying additional permanent capacity to provide shelter for recent increases in apprehensions of Unaccompanied Children (UC) at the Southwest Border. The addition of permanent capacity is a prudent step to ensure that ORR is able to meet its responsibility, by law, to provide shelter and appropriate services for UC referred to its care by the Department of Homeland Security.

DATES: The proposed period of performance is May 1, 2021 to May 1, 2022.

FOR FURTHER INFORMATION CONTACT: Stephen Antkowiak, Office of Refugee Resettlement, Division of Unaccompanied Alien Children Operations, 330 Street SW, Washington, DC 20447. Phone: 202-260-6165. Email: stephen.antkowiak@acf.hhs.gov.

SUPPLEMENTARY INFORMATION: ORR is continuously monitoring its capacity to shelter the UC referred to HHS, as well as the information received from interagency partners, to inform any future decisions or actions.

ORR has specific requirements for the provision of services. Award recipients must have the infrastructure, licensing, experience, and appropriate level of trained staff to meet those requirements.

ORR announces the intent to award the following single-source awards:

Recipient | Award amount
Child Crisis, Mesa, AZ | $5,780,118
Catholic Guardian Services, New York, NY | 5,183,433
Center for Family Services, Camden, NJ | 1,665,980
LIRS—Shelter/TFC, Multiple Locations | 27,767,725
Baptiste Group, Memphis, TN | 14,135,642
Bethany Christian Service, Multiple Locations | 7,018,576
LIRS—Safe Release Expansion, Multiple Locations | 3,815,326

Statutory Authority: This program is authorized by—

(A) Section 462 of the Homeland Security Act of 2002, which in March 2003, transferred responsibility for the care and custody of UAC from the Commissioner of the former Immigration and Naturalization Service to the Director of ORR within HHS.

(B) The Flores Settlement Agreement, Case No. CV85-4544RJK (C.D. Cal. 1996), as well as the William Wilberforce Trafficking Victims Protection Reauthorization Act of 2008 (Pub. L. 110-457), which authorizes post release services under certain conditions to eligible children. All programs must comply with the Flores Settlement Agreement, Case No. CV85-4544-RJK (C.D. Cal. 1996); pertinent regulations; and ORR policies and procedures.

Elizabeth Leo,
Senior Grants Policy Specialist, Office of Grants Policy, Office of Administration.

[FR Doc. 2021-09758 Filed 5-4-21; 4:15 pm]

BILLING CODE 4184-45-P